DEPARTMENT OF LABOR

Employment and Training Administration

20 CFR Parts 652, 661, 662, 663, 664 and 667

RIN 1205-AB46

Workforce Investment Act Amendments; Supplement

AGENCY: Employment and Training Administration (ETA), Labor.

ACTION: Proposed rule; Supplement.

SUMMARY: Given that the Department of Labor (the Department) is now posting public comments on the Internet through the http://www.regulations.gov Web site, the federal eRulemaking portal, the following language should be inserted at the end of the ADDRESSES section of the preamble for the Notice of Proposed Rulemaking at 71 FR 76558 (December 20, 2006).

“Please note that comments received will be posted on the http://www.regulations.gov Web site. The http://www.regulations.gov Web site is the federal eRulemaking portal and all comments received will be available and accessible to the public. Therefore, the Department recommends that commenters safeguard their personal information such as Social Security Numbers, personal addresses, telephone numbers, and e-mail addresses included in their comments as such may become easily available to the public via the http://www.regulations.gov Web site. If a comment is e-mailed directly to the Department's address without going through http://www.regulations.gov, the comment will have the sender's e-mail address attached to it and therefore, the e-mail address and information contained therein may be posted online. It is the responsibility of the commenter to safeguard their information. All comments received will be posted on http://www.regulations.gov and may be posted without information redacted. However, for comments that were submitted to ETA before the publication of this Supplement, ETA will make every effort to redact apparently confidential information before posting the comment on http://www.regulations.gov.”

DATES: To be assured of consideration, comments must be in writing and must be received on or before February 20, 2007.

FOR FURTHER INFORMATION CONTACT: Ms. Maria K. Flynn, Administrator, Office of Policy Development and Research, Employment and Training Administration, U.S. Department of Labor, 200 Constitution Avenue, NW., Room N-5641, Washington, DC 20210, Telephone: (202) 693-3700 (VOICE) or 887-889-5627 (TTY/TDD). Please note that these are not toll-free numbers.

Signed at Washington, DC this 13th day of February, 2007.
Emily Stover DeRocco,
Assistant Secretary of Labor.

[FR Doc. E7-2861 Filed 2-20-07; 8:45 am]

BILLING CODE 4510-FM-P